DEPARTMENT OF EDUCATION

Applications for New Awards; Mental Health Service Professional Demonstration Grant Program

AGENCY: Office of Elementary and Secondary Education, Department of Education.

ACTION: Notice.

SUMMARY: The Department of Education (Department) is issuing a notice inviting applications for fiscal year (FY) 2019 for the Mental Health Service Professional Demonstration Grant Program, Catalog of Federal Domestic Assistance (CFDA) number 84.184X. This notice relates to the approved information collection under OMB control number 1894-0006.

DATES:

Applications Available: June 21, 2019.

Deadline for Transmittal of Applications: August 5, 2019.

Deadline for Intergovernmental Review: September 4, 2019.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Earl Myers, U.S. Department of Education, 400 Maryland Avenue SW, Room 3E244, Washington, DC 20202-6450. Email: Mental.Health@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The Mental Health Service Professional Demonstration Grant Program provides competitive grants to support and demonstrate innovative partnerships to train school-based mental health services providers for employment in schools and local educational agencies (LEAs). The goal of this program is to expand the pipeline of high-quality, trained providers to address the shortages of mental health service professionals in schools served by high-need LEAs. The partnerships must include (1) one or more high-need LEAs or a State educational agency (SEA) on behalf of one or more high-need LEAs; and (2) one or more eligible institutions of higher education (IHE). Partnerships must provide opportunities to place graduate students of IHEs in school-based mental health fields into schools served by the participating high-need LEAs to complete required field work, credit hours, internships, or related training as applicable for the degree, license, or credential program of each student.

Background: Our Nation's schools should be safe and secure settings where children can learn and grow to their full potential. However, over the last few years violent acts inside and outside our schools, as well as a growing rate of student suicides, have created stress and trauma for individual students and disrupted the learning environment.

School-based mental health services providers offer supports that encompass social-emotional learning, mental wellness, resilience, and positive connections between students and adults. These supports are essential to creating a school culture in which students feel safe and empowered to report safety concerns, which is proven to be among the most effective school safety strategies. Additionally, in the aftermath of a crisis, school-based mental health professionals provide supports that facilitate a return to normalcy, are sustainable, and can help to identify and work with students with more intense or ongoing needs.¹

¹ “School Based Mental Health Services: Improving Student Learning and Well-Being.” (2016). National Association of School Psychologists. Bethesda, MD. www.nasponline.org/resources-and-publications/resources/mental-health/school-psychology-and-mental-health/school-based-mental-health-services. Accessed June 12, 2019.

However, in school year 2015-16, the Department of Education's Civil Rights Data collected by the National Center for Education Statistics provided evidence that there were not enough counselors, social workers, or nurses employed by our public schools. Partnerships between schools and community mental health providers (including colleges and universities), will expand the pipeline of mental health providers exposed to working in schools and should play a major role in addressing these shortages.

According to the data, 36 million students were enrolled in 55,000 schools but substantially exceeded the recommended ratios for student-to-counselor, student-to-social worker, or student-to-nurse. The actual student-to-psychologist ratio was below the recommended ratio.² Nationally, the ratios were as follows:

² Civil Rights Data Collection. U.S. Department of Education. https://ocrdata.ed.gov/. Accessed June 12, 2019.

• The student-to-counselor ratio was 444:1 as compared to a recommended ratio of 250:1 by the American School Counselor Association; ³

³ American School Counselor Association Home Page. https://www.schoolcounselor.org/. Accessed June 12, 2019.

• The student-to-social worker ratio was 2,160:1 as compared to a recommended 250:1 by the National Association of Social Workers; ⁴

⁴ “NASW Highlights the Growing Need for School Social Workers to Prevent School Violence.” National Association of Social Workers. March 27, 2018. https://www.socialworkers.org/News/News-Releases/ArticleType/ArticleView/ArticleID/1633. Accessed June 12, 2019.

• The student-to-psychologist ratio was 444-to-1 as compared to 1,000:1 generally and no more than 500 to 700:1 for broader services; by the National Association of School Psychologists; ⁵ and

⁵ “Shortages in School Psychology.” National Association of School Psychologists. https://www.nasponline.org/Documents/Resources%20and%20publications/Resources/School_Psychology_Shortage_2017.pdf. Accessed June 12, 2019.

• The student-to-nurse ratio was 936-to-1 as compared to a recommended 750-to-1 by the National Association of School Nurses.⁶

⁶ “School Nurse Workload: Staffing for Safe Care.” National Association of School Nurses. https://www.nasn.org/advocacy/professional-practice-documents/position-statements/ps-workload. Accessed June 12, 2019.

In March 2018, President Trump established a Federal Commission on School Safety (Commission) to review school climate and safety issues and make meaningful and actionable recommendations regarding best practices to keep students safe. To inform its work, the Commission held four formal meetings, four site visits, and four listening sessions. A consistent theme emphasized throughout these activities was longstanding concern over limited access to counselors and other health care-related professionals in high-poverty districts and schools where needs are the greatest.

In December 2018, the Commission released its final report,⁷ which offers several recommendations for leaders at the local, State, and Federal levels on strategies and actions for improving school safety, including expanded access to mental health services. In addition, the Statement of the Managers accompanying the Department's fiscal year 2019 appropriations act encouraged the Department to use a portion of School Safety National Activities funds to support a Mental Health Demonstration Grant program.⁸

⁷ DeVos, B., et al. Final Report of the Federal Commission on School Safety. (2018). https://www2.ed.gov/documents/school-safety/school-safety-report.pdf.

⁸ Conference Report for the Department of Defense for the Fiscal Year Ending September 30, 2019, and for Other Purposes. https://www.congress.gov/115/crpt/hrpt952/CRPT-115hrpt952.pdf (Page 543).

The Department is implementing the Mental Health Service Professional Demonstration Grant Program in response to these recommendations.

These grants will enable high-need LEAs or SEAs on behalf of high-need LEAs, in partnerships with one or more participating eligible IHEs, to expand the pipeline of school-based mental health services providers, as defined in this notice, for high-need public elementary schools and secondary schools with shortages of school-based mental health service providers. The provision of medical services by such professionals is not an allowable use of funds under this grant. To the extent that grant funds directly benefits an individual graduate student, the Department encourages an applicant to consider how it might implement a service obligation for such graduate student as a school-based mental health services provider in a high-need school commensurate with the level of support the graduate student receives.

Priorities: This notice contains one absolute priority and two competitive preference priorities. We are establishing the absolute priority for the FY 2019 grant competition and any subsequent year in which we make awards from the list of unfunded applications from this competition, in accordance with section 437(d)(1) of the General Education Provisions Act (GEPA), 20 U.S.C. 1232(d)(1). In accordance with 34 CFR 75.105(b)(2)(ii), the competitive preference priorities are from the Department's notice of Final Supplemental Priorities and Definitions for Discretionary Grant Programs (Supplemental Priorities), published in the Federal Register on March 2, 2018 (83 FR 9096).

Absolute Priority: For FY 2019 and any subsequent year in which we make awards from the list of unfunded applications from this competition, this priority is an absolute priority. Under 34 CFR 75.105(c)(3) we consider only applications that meet this priority.

This priority is:

Expand the capacity of high-need LEAs in partnership with IHEs to train school-based mental health services providers, as defined in this notice, with the goal of expanding the pipeline of these professionals into high-need public elementary schools and secondary schools in order to address the shortages of school-based mental health service providers in such schools.

To meet this priority, the applicant must propose a School-Based Mental Health partnership (as defined in this notice) established for the purpose of placing graduate students of university academic programs in school-based mental health fields into schools served by the participating high-need LEAs to complete required field work, credit hours, internships, or related training as applicable for the degree, license, or credential program of each student.

Competitive Preference Priorities: For FY 2019 and any subsequent year in which we make awards from the list of unfunded applications from this competition, these priorities are competitive preference priorities. Under 34 CFR 75.105(c)(2)(i) we award up to an additional five points to an application, depending on how well the application meets Competitive Preference Priority 1; and up to an additional five points to an application that meets Competitive Preference Priority 2. Applicants may address one or both of the competitive preference priorities. The total maximum points we may award an application that chooses to address each of the competitive preference priorities is 10. An applicant must clearly indicate in the abstract section of its application each competitive preference priority under which it is applying. The Department may choose not to award points under these competitive preference priorities for any application that fails to do so.

These priorities are:

Competitive Preference Priority 1—Fostering Knowledge and Promoting the Development of Skills That Prepare Students To Be Informed, Thoughtful, and Productive Individuals and Citizens. (0 to 5 points)

Supporting projects likely to improve student academic performance and better prepare students for employment, responsible citizenship, and fulfilling lives, including by preparing children or students to do one or more of the following:

(i) Develop positive personal relationships with others.

(ii) Develop determination, perseverance, and the ability to overcome obstacles.

(iii) Develop self-esteem through perseverance and earned success.

(iv) Develop problem solving skills.

(v) Develop self-regulation in order to work toward long-term goals.

Competitive Preference Priority 2—Protecting Freedom of Speech and Encouraging Respectful Interactions in a Safe Educational Environment. (0 to 5 points)

Developing positive learning environments that promote strong relationships among students and school personnel to help prevent bullying, violence, and disruptive actions that diminish the opportunity for each student to receive a high-quality education.

Requirements: We are establishing these application requirements for the FY 2019 grant competition and any subsequent year in which we make awards from the list of unfunded applications from this competition, in accordance with section 437(d)(1) of GEPA, 20 U.S.C. 1232(d)(1).

Application Requirements: An applicant must include the following in its application:

(a) Description of the severity and magnitude of the problem and identification of schools to be served by the proposed project.

Applicants must describe how the lack of school-based mental health services providers is specifically affecting students in schools to be served by project activities. Applicants must describe the nature of the problem for the LEA, based on information such as, but not limited to, the most recent available ratios of school-based mental health service providers to students enrolled in schools in each high-need LEA that is part of the School-Based Mental Health partnership (in the aggregate and disaggregated by profession (e.g., social workers, school psychologists)). The description may also include LEA and school-level demographic data, school climate surveys, school violence/crime data and data related to suicide rates. In order to help the Department assess the magnitude of the problem and ensure the applications selected will serve high-need LEAs, data cited must be compared to similar data at the State or local level, and on a per capita basis when available.

(b) Collaboration and coordination with related Federal, State, and local initiatives.

Applicants must describe how they intend to collaborate with State, regional, and local chapters of social workers, psychologists, and nurses associations, and describe their relationship and coordination with regional and local mental health, public health, child welfare, and other community agencies, to achieve project goals and objectives of establishing a pipeline program to train and expand the capacity of school-based mental health service providers in high-need LEAs. Applicants must also describe proposed coordination with existing federally funded efforts related to elementary and secondary school counseling and mental health promotion. Evidence of collaboration and coordination must be provided through letters of support or Memoranda of Agreement/Memoranda of Understanding (MOAs/MOUs) from State, regional, or local chapters or agencies, if applicable. Applicants must describe how they will use the Mental Health Service Professional Demonstration Grant Program funds to complement, rather than duplicate, existing, ongoing, or new efforts to expand the pipeline of school-based mental health services providers to be employed by schools and local educational agencies (LEAs) qualified to provide school-based mental health services. Finally, applicants must include estimates of the number of mental health service providers they expect to train and have placed into employment by high-need schools and high-need LEAs each year.

(c) Enhancing LEA capacity to provide mental health services to students.

Applicants must describe the specific activities they will conduct to expand and improve LEA capacity to serve students in high-need LEAs and ensure that students receive appropriate mental health services. To meet this requirement, the applicant must propose a School-Based Mental Health partnership (as defined in this notice) established for the purpose of placing graduate students of university academic programs in school-based mental health fields into schools served by the participating high-need LEAs to complete required field work, credit hours, internships, or related training as applicable for the degree, license, or credential program of each student. If the applicant intends to establish a program that directly benefits an individual graduate student, such as through a stipend or tuition credit, the Department encourages the applicant to describe its approach, if any, to implementing a service obligation for such graduate student as a school-based mental health services provider in a high-need school commensurate with the level of support the graduate student receives.

(d) Enhancing LEAs ability to assess and address the needs of students in high-need LEAs.

Applicants must describe the specific process and activities they will use to ensure students in high-need who may be in need of school-based mental health services, are properly targeted, assessed, and provided the appropriate school-based mental health service.

Definitions: We are establishing the definitions of “eligible institution of higher education,” “high-need school,” “School-Based Mental Health partnership,” and “student from a low-income family,” in this notice for the FY 2019 grant competition and any subsequent year in which we make awards from the list of unfunded applications from this competition, in accordance with section 437(d)(1) of GEPA, 20 U.S.C. 1232(d)(1). The definition of “high-need LEA” is from section 200 of the Higher Education Act of 1965, as amended (20 U.S.C. 1021(10)). The definition of “local educational agency” is from 20 U.S.C. 7801(30) and is included for the convenience of the reader. The definition of “institution of higher education” is from 20 U.S.C. 1002. The definition of “State educational agency” is from 20 U.S.C. 7801. The definitions of “ambitious” and “baseline” are from 34 CFR 77.1. The definition of “school-based mental health services provider” is from 20 U.S.C. 7112(6).

These definitions are:

Ambitious means promoting continued, meaningful improvement for program participants or for other individuals or entities affected by the grant, or representing a significant advancement in the field of education research, practices, or methodologies. When used to describe a performance target, whether a performance target is ambitious depends upon the context of the relevant performance measure and the baseline for that measure.

Baseline means the starting point from which performance is measured and targets are set.

Eligible institution of higher education means an institution of higher education that offers a program of study that leads to a masters or other graduate degree—

(a) In school psychology that prepares students in such program for the State licensing or certification examination in school-based psychology;

(b) In school counseling that prepares students in such program for the State licensing or certification examination in school counseling;

(c) In school social work that prepares students in such program for the State licensing or certification examination in school social work;

(d) In another school-based mental health field that prepares students in such program for the State licensing or certification examination in such fields as behavioral health aides, school nurses, and clinical psychologists employed by the schools or under contract with LEAs to provide evaluations, if applicable; or

(e) In any combination of study described in subparagraphs (a) through (d).

High-need local educational agency (LEA) means an LEA—

(a)(1) For which not less than 20 percent of the children served by the agency are children from low-income families;

(2) That serves not fewer than 10,000 children from low-income families;

(3) That meets the eligibility requirements for funding under the Small, Rural School Achievement (SRSA) program under section 5211(b) of the ESEA (20 U.S.C. 7345(b)); or

(4) That meets eligibility requirements for funding under the Rural and Low-Income School (RLIS) program under section 5221(b) of the ESEA (20 U.S.C. 7351(b)); and—

(b)(1) For which there is a high percentage of teachers not teaching in the academic subject areas or grade levels in which the teachers were trained to teach; or

(2) For which there is a high teacher turnover rate or a high percentage of teachers with emergency, provisional, or temporary certification or licensure.

High-need school means a school that, based on the most recent data available, meets one or both of the following:

(a) The school is in the highest quartile of schools in a ranking of all schools served by a local educational agency, ranked in descending order by percentage of students from low-income families enrolled in such schools, as determined by the local educational agency based on one of the following measures of poverty:

(1) The percentage of students aged 5 through 17 in poverty counted in the most recent census data approved by the Secretary.

(2) The percentage of students eligible for a free or reduced price school lunch under the Richard B. Russell National School Lunch Act.

(3) The percentage of students in families receiving assistance under the State program funded under part A of title IV of the Social Security Act.

(4) The percentage of students eligible to receive medical assistance under the Medicaid program.

(5) A composite of two or more of the measures described in subclauses (I) through (IV).

(b) In the case of—

(1) an elementary school, the school serves students not less than 60 percent of whom are eligible for a free or reduced price school lunch under the Richard B. Russell National School Lunch Act; or

(2) any other school that is not an elementary school, the other school serves students not less than 45 percent of whom are eligible for a free or reduced price school lunch under the Richard B. Russell National School Lunch Act.

Institution of higher education has the meaning given to such term in section 102 of the Higher Education Act of 1965 (20 U.S.C. 1002), but excludes any institution of higher education described in section 102(a)(1)(C) of such Act.

Local educational agency means:

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) The term includes any other public institution or agency having administrative control and direction of a public elementary school or secondary school.

(c) The term includes an elementary school or secondary school funded by the Bureau of Indian Education but only to the extent that including the school makes the school eligible for programs for which specific eligibility is not provided to the school in another provision of law and the school does not have a student population that is smaller than the student population of the local educational agency receiving assistance under this chapter with the smallest student population, except that the school shall not be subject to the jurisdiction of any State educational agency other than the Bureau of Indian Education.

(d) The term includes educational service agencies and consortia of those agencies.

(e) The term includes the State educational agency in a State in which the State educational agency is the sole educational agency for all public schools.

School-Based Mental Health partnership means:

(a) One or more high-need LEAs or a State educational agency (SEA) on behalf of one or more high-need LEAs; and

(b) one or more eligible IHEs.

School-based mental health services provider means a State-licensed or State-certified school counselor, school psychologist, school social worker, or other State licensed or certified mental health professional qualified under State law to provide mental health services to children and adolescents.

State educational agency has the meaning given the term in section 8101 of the ESEA (20 U.S.C. 7801).

Student from a low-income family means any student whose family meets any of the poverty thresholds established in ESEA section 1113 for the relevant grade level.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under title IV, part F, subpart 3 of the ESEA (20 U.S.C. 7281) and therefore qualifies for this exemption. In order to ensure timely grant awards, the Secretary has decided to forgo public comment on the priorities, definitions, and requirements under section 437(d)(1) of GEPA. These priorities, definitions, and requirements will apply to the FY 2019 grant competition and any subsequent year in which we make awards from the list of unfunded applications from this competition.

Program Authority: Section 4631(a)(1)(B) of the ESEA (20 U.S.C. 7281).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $15,000,000.

Contingent upon the availability of funds and the quality of applications, we may make additional awards in subsequent years from the list of unfunded applications from the competition.

Estimated Range of Awards: $250,000 to $500,000.

Estimated Average Size of Awards: $300,000.

Estimated Number of Awards: 50.

Note: The Department is not bound by any estimates in this notice.

Project Period: Up to 60 months.

III. Eligibility Information

1. Eligible Applicants: High-need LEAs; SEAs on behalf of one or more high-need LEA(s). Applicants must propose to work in partnership with an eligible IHE.

2. Cost Sharing or Matching: This program does not require cost sharing or matching.

3. Subgrantees: A grantee under this competition may not award subgrants to entities to directly carry out project activities described in its application.

4. Limitation on Awards: The Department will make only one award that serves any individual LEA.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program. Please note that, under 34 CFR 79.8(a), we have shortened the standard 60-day intergovernmental review period in order to make awards by the end of FY 2019.

3. Funding Restrictions: We reference regulations outlining funding restrictions in the Applicable Regulations section of this notice. In addition, we remind applicants that section 4001(b) of the ESEA (20 U.S.C. 7101) prohibits the use of funds for medical services or drug treatment or rehabilitation, except for integrated student supports, specialized instructional support services, or referral to treatment for impacted students, which may include students who are victims of, or witnesses to, crime or who illegally use drugs. This prohibition does not preclude the use of funds to support mental health counseling and support services, including those provided by a mental health services provider outside of school, so long as such services are not medical.

V. Application Review Information

1. Selection Criteria: The selection criteria for this program are from 34 CFR 75.210. The maximum score for all selection criteria is 100 points. The points assigned to each criterion are indicated in parentheses. Non-Federal peer reviewers will evaluate and score each application program narrative against the following selection criteria:

(a) Need for the Project (15 points)

(1) The Secretary considers the proposed need for the project.

(2) In determining the need for the proposed project, the Secretary considers the extent to which specific gaps or weaknesses in services, infrastructure, or opportunities have been identified and will be addressed by the proposed project, including the nature and magnitude of those gaps or weaknesses.

(b) Significance (15 points)

(1) The Secretary considers the significance of the proposed project.

(2) In determining the significance of the proposed project, the Secretary considers the extent to which the proposed project is likely to build local capacity to provide, improve, or expand services that address the needs of the target population.

(c) Quality of the Project Design (20 points)

(1) The Secretary considers the quality of the design of the proposed project.

(2) In determining the quality of the design of the proposed project, the Secretary considers the following factors:

(i) The extent to which the design of the proposed project includes a thorough, high-quality review of the relevant literature, a high-quality plan for project implementation, and the use of appropriate methodological tools to ensure successful achievement of project objectives. (15 points)

(ii) The extent to which the proposed project represents an exceptional approach to the priority or priorities established for the competition. (5 points)

(d) Quality of the Project Services (30 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the extent to which the training or professional development services to be provided by the proposed project are likely to alleviate the personnel shortages that have been identified or are the focus of the proposed project.

(e) Quality of the Project Evaluation (20 points)

(1) The Secretary considers the quality of the evaluation to be conducted of the proposed project.

(2) In determining the quality of the evaluation, the Secretary considers the following factors:

(i) The extent to which the methods of evaluation are thorough, feasible, and appropriate to the goals, objectives, and outcomes of the proposed project. (10 points)

(ii) The extent to which the methods of evaluation will provide performance feedback and permit periodic assessment of progress toward achieving intended outcomes. (10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the Mental Health Service Professional Demonstration Grant Program:

(a) The unduplicated number of school-based mental health services providers employed by schools and LEAs as of the date for each annual reporting period of the grant who have been trained and placed by the grant to provide school-based mental health services.

(b) Number of school-based mental health services providers employed by schools and LEAs retained on an annual basis by a high-need local educational agency to provide school-based mental health services.

These measures constitute the Department's indicators of success for this program. Consequently, we advise an applicant for a grant under this program to give careful consideration to these measures in conceptualizing the approach and evaluation for its proposed project. Each grantee will be required to provide, in its annual performance and final reports, data about its progress in meeting these measures. This data will be considered by the Department in making potential continuation awards.

Consistent with 34 CFR 75.591, grantees funded under this program shall requirements of any evaluation of the program conducted by the Department or an evaluator selected by the Department.

Performance measure targets: The applicant must propose annual targets for the measures listed above in their application. Applications must also provide the following information as directed under 34 CFR 75.110(b) and (c):

(1) Why each proposed performance target is ambitious (as defined in this notice) yet achievable compared to the baseline for the performance measure.

(2)(a) The data collection and reporting methods the applicant would use and why those methods are likely to yield reliable, valid, and meaningful performance data; and (b) the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

The reviewers of each application will score related selection criteria on the basis of how well an applicant has considered these measures in conceptualizing the approach and evaluation of the project.

All grantees must submit an annual performance report and final performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: June 18, 2019.
Frank T. Brogan,
Assistant Secretary for Elementary and Secondary Education.

[FR Doc. 2019-13289 Filed 6-20-19; 8:45 am]

BILLING CODE 4000-01-P